DEPARTMENT OF HEALTH AND HUMAN SERVICES

Centers for Disease Control and Prevention

[30Day-17-17ADS]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on April 27, 2017 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

Awardee Lead Profile Assessment (ALPA)—NEW—National Center for Environmental Health (NCEH), Centers for Disease Control and Prevention (CDC).

Background and Brief Description

The Centers for Disease Control and Prevention (CDC) is requesting a three-year OMB approval for a new information collection request (ICR) titled “Awardee Lead Profile Assessment (ALPA).” The goal of this information collection project is to obtain program management information from participating state and local governments that are awardees under the CDC Healthy Homes and Lead Poisoning Prevention Program (HHLPPP) FY17 Funding Opportunity Announcement (FOA No. CDC-RFA-EH17-1701PPHF17). CDC will use this annual information collection to: (1) Identify common characteristics of funded childhood lead poisoning prevention programs; and (2) inform guidance and resource development in support of the ultimate program goal, which is blood lead elimination in children.

The public dissemination of these ALPA results will ensure that both funded and non-funded jurisdictions are able to: (1) Identify policies and other factors that support or hinder childhood lead poisoning prevention efforts; (2) understand what strategies are being used by funded public health agencies to implement childhood lead poisoning prevention activities; and (3) use this knowledge to develop and apply similar strategies to support the national agenda to eliminate childhood lead poisoning.

CDC will collect this program management information annually from 48 awardees, using two data collection modes. We anticipate that the majority, 40 respondents, will choose the web survey due to the ease of use, and that 8 respondents will choose the Word format mode.

We estimate the time burden to be the same, 7 minutes per response, regardless of data collection mode (web survey or Word format). This estimate is based on a 2015 survey among 35 former awardees titled “Baseline Profile of State and Local Healthy Homes and Lead Poisoning Prevention Programs (PROF-LEAD),” approved under the generic clearance for “Information Collections to Advance State, Tribal, Local, and Territorial (STLT) Governmental Health” (OMB Control No. 0920-0879; expiration date 03/31/2018). Based on the success of the PROF-LEAD survey, the ALPA questionnaire, with a few revisions, is now proposed as an annual reporting requirement for awardees under the FY17 FOA.

There is no cost to the respondents other than their time. The total annual time burden requested is 6 hours.

Estimated Annualized Burden Hours
Type of respondents | Form name | Number of respondents | Number of responses per respondent | Avg. burden per response (in hours)
State And Local Governments (or their bona fide fiscal agents) | Awardee Lead Profile Assessment (ALPA) Questionnaire—web survey | 40 | 1 | 7/60
| ALPA Questionnaire—Word format | 8 | 1 | 7/60

Leroy A. Richardson,
Chief, Information Collection Review Office, Office of Scientific Integrity, Office of the Associate Director for Science, Office of the Director, Centers for Disease Control and Prevention.

[FR Doc. 2017-22772 Filed 10-19-17; 8:45 am]

BILLING CODE 4163-18-P